OFFICE OF GOVERNMENT ETHICS

Privacy Act of 1974; System Records

AGENCY: Office of Government Ethics.

ACTION: Notice of a new system of records.

SUMMARY: The Office of Government Ethics (OGE) proposes to create a new system of records pursuant to the provisions of the Privacy Act of 1974. This system of records contains contact information of federal employees and members of the public collected and maintained for the purposes of conducting agency business.

DATES: This system of records will be effective on April 22, 2022, subject to a 30-day period in which to comment on the routine uses, described below. Please submit any comments by May 23, 2022.

ADDRESSES: Comments may be submitted to OGE, by the following methods:

Email: usoge@oge.gov (Include reference to “OGE/INTERNAL-7 comment” in the subject line of the message.).

Mail, Hand Delivery/Courier: Office of Government Ethics, 1201 New York Avenue NW, Suite 500, Attention: Jennifer Matis, Associate Counsel, Washington, DC 20005-3917.

Instructions: Comments may be posted on OGE's website, https://www.oge.gov. Sensitive personal information, such as account numbers or Social Security numbers, should not be included. Comments generally will not be edited to remove any identifying or contact information.

FOR FURTHER INFORMATION CONTACT: Jennifer Matis at the U.S. Office of Government Ethics; telephone: 202-482-9216; TTY: 800-877-8339; Email: privacy@oge.gov.

SUPPLEMENTARY INFORMATION: The Office of Government Ethics is establishing a new system of records that includes contact information compiled in lists related to a specific event, initiative, project, or recruitment or outreach activity. The contact lists are used to facilitate outreach, respond to inquiries, distribute information, and permit other communications in furtherance of OGE's mission under the Ethics in Government Act.

SYSTEM NAME AND NUMBER:

OGE/INTERNAL-7, Outreach and Contact Lists.

SECURITY CLASSIFICATION:

Unclassified.

SYSTEM LOCATION:

Office of Government Ethics, 1201 New York Avenue NW, Suite 500, Washington, DC 20005-3917. Records may also be kept in commercial third-party applications.

SYSTEM MANAGER(S):

Nicole Stein, Chief, Agency Assistance Branch, Office of Government Ethics, Suite 500, 1201 New York Avenue NW, Washington, DC 20005-3917.

AUTHORITY FOR MAINTENANCE OF THE SYSTEM:

5 U.S.C. app. § 402 (Ethics in Government Act of 1978); 44 U.S.C. 3101.

PURPOSE(S) OF THE SYSTEM:

The purpose of the information in the system is to enable OGE to efficiently and effectively manage contact information to: (1) Assist OGE in the distribution of information to individuals who request it; (2) to maintain lists of media, affinity group, nongovernmental organization, Congressional, and/or other stakeholders for future communications; and (3) to correspond with individuals who voluntarily provide information to OGE through surveys, email, mail, or in person.

CATEGORIES OF INDIVIDUALS COVERED BY THE SYSTEM:

Federal employees in the executive branch, and/or members of the public who have communicated with OGE or with whom OGE wishes to communicate.

CATEGORIES OF RECORDS IN THE SYSTEM:

Information included in the system of records may include: (1) Contact information such as names, home/work addresses, organizational/agency affiliations and addresses, phone numbers and emails addresses (both work and personal), and job titles; (2) information collected from individuals in response to surveys or as part of agency outreach initiatives; and (3) sign-in sheets or rosters compiled at meetings, summits, and events held at or hosted by OGE. The information may be maintained in a word processing or PDF document, on paper, as part of a spreadsheet, or in either an internal or third party application.

RECORD SOURCE CATEGORIES:

Information in this system of records is provided by the individual on whom the record is maintained or from publicly available sources such as organization websites.

ROUTINE USES OF RECORDS MAINTAINED IN THE SYSTEM, INCLUDING CATEGORIES OF USERS AND THE PURPOSES OF SUCH USES:

The primary use of the information maintained in this system is to communicate directly with the individuals whose information is contained in the system. These records and the information contained therein may also be used:

a. To disclose information to third party vendors and service providers (such as Mailchimp or GovDelivery) for the purpose of outreach or correspondence to stakeholders.

b. To disclose pertinent information to the appropriate Federal, State, or local agency responsible for investigating, prosecuting, enforcing, or implementing a statute, rule, regulation, or order, where the disclosing agency becomes aware of an indication of a violation or potential violation of civil or criminal law or regulation.

c. To disclose to contractors, grantees, volunteers, experts, students, and others performing or working on a contract, service, grant, cooperative agreement, or job for the Federal Government when necessary to accomplish an agency function.

d. To disclose information when OGE determines that the records are arguably relevant and necessary to a proceeding before a court, grand jury, or administrative or adjudicative body; or in a proceeding before an administrative or adjudicative body when the adjudicator determines the records to be relevant and necessary to the proceeding.

e. To disclose information to the National Archives and Records Administration in records management inspections conducted under authority of 44 U.S.C. 2904 and 2906.

f. To disclose information to appropriate agencies, entities, and persons when: (1) OGE suspects or has confirmed that there has been a breach of the system of records; (2) OGE has determined that as a result of the suspected or confirmed breach there is a risk of harm to individuals, the agency (including its information systems, programs, and operations), the Federal Government, or national security; and (3) the disclosure made to such agencies, entities, and persons is reasonably necessary to assist in connection with OGE's efforts to respond to the suspected or confirmed breach or to prevent, minimize, or remedy such harm.

g. To disclose information to another Federal agency or Federal entity, when OGE determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

These records are maintained in paper and/or electronic form.

POLICIES AND PRACTICES FOR RETRIEVAL OF RECORDS:

These records may be retrieved by name or other data elements such as stakeholder category (i.e., Congressional, Nonprofit Organization, Federal Agency).

POLICIES AND PRACTICES FOR RETENTION AND DISPOSAL OF RECORDS:

In accordance with General Records Schedule 6.4, item 010, Public affairs-related routine operational records, the records are destroyed when 3 years old, or no longer needed, whichever is later.

ADMINISTRATIVE, TECHNICAL, AND PHYSICAL SAFEGUARDS:

Electronic records maintained on the OGE network, in OGE internal applications, or in third party applications are protected from unauthorized access through password identification procedures, limited access, and other system-based protection methods. Electronic records are also protected through administrative safeguards, such as OGE's Account Access Request Form (AARF) process, which is required for access to OGE systems, applications, and third party accounts. Paper records are protected through appropriate physical security measures.

RECORD ACCESS PROCEDURES:

Individuals requesting access to this system of records must follow the procedures set forth in OGE's Privacy Act regulations at 5 CFR part 2606.

CONTESTING RECORD PROCEDURES:

Individuals wishing to request amendment of records about themselves must follow the procedures set forth in OGE's Privacy Act regulations at 5 CFR part 2606.

NOTIFICATION PROCEDURE:

Individuals wishing to inquire whether this system of records contains information about them must follow the procedures set forth in OGE's Privacy Act regulations at 5 CFR part 2606.

EXEMPTIONS CLAIMED FOR THE SYSTEM:

None.

HISTORY:

None.

Approved: April 18, 2022.
Emory Rounds,
Director, U.S. Office of Government Ethics.

[FR Doc. 2022-08558 Filed 4-21-22; 8:45 am]

BILLING CODE 6345-02-P